DEPARTMENT OF THE INTERIOR

Bureau of Reclamation

Glen Canyon Dam Adaptive Management Work Group (AMWG)

AGENCY: Bureau of Reclamation, Interior.

ACTION: Notice of Public Meeting (Conference Call).

SUMMARY: The Glen Canyon Dam Adaptive Management Program (AMP) was implemented as a result of the Record of Decision on the Operation of Glen Canyon Dam Final Environmental Impact Statement to comply with consultation requirements of the Grand Canyon Protection Act (Pub. L. 102-575) of 1992. The AMP includes a federal advisory committee (AMWG), a technical work group (TWG), a monitoring and research center, and independent review panels. The AMWG makes recommendations to the Secretary of the Interior concerning Glen Canyon Dam operations and other management actions to protect resources downstream of Glen Canyon Dam consistent with the Grand Canyon Protection Act. The TWG is a subcommittee of the AMWG and provides technical advice and recommendations to the AMWG.

DATES AND ADDRESSES: The AMWG will conduct the following public conference call:

Date: Thursday, January 17, 2008—The call will begin at 10 a.m. (MDT) and 9 a.m. (PDT) and conclude four (4) hours later in the respective time zones. The telephone numbers are: 1-303-445-3940 for federal participants and 1-888-808-5102 for non-federal participants and members of the public. If needed, the pass code for the call is 4773.

Agenda: The conference call will include the following: (1) An update on plans for a 2008 high flow test from Glen Canyon Dam, including the proposed hydrograph and timing of the test; (2) a report from the Grand Canyon Monitoring and Research Center on the science plan for the high flow test; (3) a report from the TWG; (4) an update on the long-term experimental plan; and (5) an update on compliance activities. To view a copy of the draft agenda, please visit Reclamation's Web site at: http://www.usbr.gov/uc/rm/amp/amwg/mtgs/08jan17/index.html.

Time will be allowed for any individual or organization wishing to make formal oral comments on the call. To allow for full consideration of information by the AMWG members, written notice must be provided to Dennis Kubly, Bureau of Reclamation, Upper Colorado Regional Office, 125 South State Street, Room 6107, Salt Lake City, Utah 84138; telephone 801-524-3715; facsimile 801-524-3858; e-mail at dkubly@uc.usbr.gov at least five (5) days prior to the call. Any written comments received will be provided to the AMWG members.

FOR FURTHER INFORMATION CONTACT: Dennis Kubly, Bureau of Reclamation, telephone (801) 524-3715; facsimile (801) 524-3858; e-mail at dkubly@uc.usbr.gov.

Dated: December 19, 2007.
Randall Peterson,
Manager, Environmental Resources Division, Upper Colorado Regional Office, Salt Lake City, Utah.

[FR Doc. E7-25566 Filed 1-2-08; 8:45 am]

BILLING CODE 4310-MN-P